DEPARTMENT OF LABOR

Occupational Safety and Health Administration

[Docket No. ICR-1218-0205(2003)]

Standard on Personal Protective Equipment (PPE) for General Industry (29 CFR Part 1910, Subpart I); Extension of the Office of Management and Budget's (OMB) Approval of Information Collection (Paperwork) Requirements

AGENCY: Occupational Safety and Health Administration (OSHA), Labor.

ACTION: Request for comment.

SUMMARY: OSHA solicits comments concerning its proposal to decrease the existing burden hour estimates; and to extend OMB approval of the information-collection requirements of the Personal Protective Equipment (PPE) for General Industry Standard (29 CFR part 1910, subpart 1).¹ The Standard requires employers to provide and ensure that each affected employee uses the appropriate personal protective equipment (PPE) for the eyes, face, head, extremities, torso, and respiratory system, including protective clothing, protective shields, protective barriers, personal fall protection equipment, and life saving equipment, meeting the applicable provisions of this subpart, wherever employees are exposed to work activity hazards that require the use of PPE.

¹ Based on its assessment of the paperwork requirements contained in this standard, the Agency estimates that the total burden hours decreased compared to its previous burden-hour estimate. Under this notice, OSHA is not proposing to revise the Standard's paperwork requirements; only to decrease the burden hour estimates imposed by the existing paperwork requirements.

DATES: Comments must be submitted by the following dates:

Hard Copy: Your comments must be submitted (postmarked or received) by May 23, 2003.

Facsimile and electronic transmission: Your comments must be received by May 23, 2003.

ADDRESSES: Submit written comments to the Docket Office, Docket No. ICR-1218-0205(2003), OSHA, U.S. Department of Labor, Room N-2625, 200 Constitution Avenue, NW., Washington, DC 20210; telephone: (202) 693-2350. Commenters may transmit written comments of 10 pages or less by facsimile to (202) 693-1648.

FOR FURTHER INFORMATION CONTACT: Theda Kenney, Directorate of Standards and Guidance, OSHA, U.S. Department of Labor, Room N-3609, 200 Constitution Avenue, NW., Washington, DC 20210; telephone (202) 693-2222. A copy of the Agency's Information Collection Request (ICR) supporting the need for the collections of information collection specified by the Standard on Personal Protective Equipment for General Industry is available for inspection and copying in the Docket Office, or by requesting a copy from Theda Kenney at (202) 693-2222, or Todd Owen at (202) 693-2444. For electronic copies of the ICR, contact OSHA on the Internet at http://www.osha.gov and select “Information Collection Requests.”

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction act of 1995 (PRA-95) (44 U.S.C. 3506(c)(2)(A)). This program ensures that information is in the desired format, reporting burden (time and costs) is minimized, collection instruments are understandable, and OSHA's estimate of the information collection burden is correct.

The collections of information in the standard are necessary for implementation of the requirements of the standard. The Standard specifies several paperwork requirements. The following sections describe the information collection requirements and who will use the information.

Paragraph 1910.132(d) requires employers to perform a hazard assessment of the workplace to determine if personal protective equipment (PPE) is necessary. Paragraph (d)(2) requires employers to certify that a hazard assessment has been performed. The signed certification must include the date the hazard assessment was conducted and the identification of the workplace evaluated (area or location).

Paragraph 1910.132(f)(4) requires employers to certify that employees have received and understood PPE training. The training certification must include the name of the employee(s) trained, the date of training, and the subject of the certification (i.e., a statement identifying the document as a certification of training in the use of PPE).

The hazard assessment assures that the PPE selected is appropriate for the hazards present in the workplace. The certification required with the hazard assessment verifies that the hazard assessment was conducted. The training certification verifies that employees have received the necessary training involving PPE. OSHA compliance officers may require employers to disclose the certification records during an Agency inspection.

II. Special Issues for Comment

OSHA has a particular interest in comments on the following issues:

• Whether the proposed information collection requirements are necessary for the proper performance of the agency's functions to protect workers, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

III. Proposed Actions

OSHA proposes to decrease the existing burden-hour estimates, and to extend OMB approval of the collection of information requirements specified by the Standard on Personal Protective Equipment (PPE) for General Industry (29 CFR part 1910, subpart I). The 1,122,417 million hour decrease results largely by reestimating the burden hours for employers to disclose certification of PPE training records.

The Agency will summarize the comments submitted in response to this notice, and will include this summary in its request to OMB to extend the approval of these information collection requirements.

Type of Review: Extension of a currently approved information collection requirement.

Title: Personal Protective Equipment (PPE) for General Industry (29 CFR part 1910, subpart I).

OMB Number: 1218-0205.

Affected Public: Business or other for-profit; not-for-profit institutions; Federal government; State, Local or Tribal Government.

Number of Respondents: 1,100,000.

Frequency of Recordkeeping: Varies depending upon the collection of information contained in the Standard.

Average Time per Response: Varies from one minute (.02 hour) to maintain training documentation to 1 hour to perform a hazard reassessment.

Total Annual Hours Requested: 711,862.

IV. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on March 18, 2003.
John L. Henshaw,
Assistant Secretary of Labor.

[FR Doc. 03-6944 Filed 3-21-03; 8:45 am]

BILLING CODE 4510-26-M